DEPARTMENT OF TRANSPORTATION

Federal Aviation Administration

14 CFR Part 39

[Docket No. FAA-2015-1426; Directorate Identifier 2013-NM-200-AD]

RIN 2120-AA64

Airworthiness Directives; Airbus Airplanes

AGENCY: Federal Aviation Administration (FAA), DOT.

ACTION: Notice of proposed rulemaking (NPRM).

SUMMARY: We propose to supersede Airworthiness Directive (AD) 97-20-07, for certain Airbus Model A300 B4-600, B4-600R, and F4-600R series airplanes, and Model A300 C4-605R Variant F airplanes (collectively called Model A300-600 series airplanes). AD 97-20-07 requires repetitive inspections to detect fatigue cracking in the left and right wings in the area where the top skin attaches to the center spar, and repair or modification of this area if necessary. Since we issued AD 97-20-07, we have determined that the inspection compliance time and repetitive inspection interval must be reduced to allow timely detection of cracking in the left and right wings in the area where the top skin attaches to the center spar. This proposed AD would reduce the inspection compliance time and repetitive inspection intervals. We are proposing this AD to detect and correct this cracking, which could reduce the residual strength of the top skin of the wings, and consequently affect the structural integrity of the airframe.

DATES: We must receive comments on this proposed AD by July 20, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-1426; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2015-1426; Directorate Identifier 2013-NM-200-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 17, 1997, we issued AD 97-20-07, Amendment 39-10145 (62 FR 50251, September 25, 1997). AD 97-20-07 requires actions intended to address an unsafe condition on the products listed above. Since we issued AD 97-20-07, we have determined that the inspection compliance time and repetitive inspection interval must be reduced to allow timely detection of cracking in the left and right wings in the area where the top skin attaches to the center spar.

The European Aviation Safety Agency (EASA), which is the Technical Agent for the Member States of the European Union, has issued EASA Airworthiness Directive 2013-0221, dated September 19, 2013 (referred to after this as the Mandatory Continuing Airworthiness Information, or “the MCAI”), to correct an unsafe condition for certain Airbus Model A300 B4-600, B4-600R, and F4-600R series airplanes, and Model A300 C4-605R Variant F airplanes (collectively called Model A300-600 series airplanes). The MCAI states:

During fatigue tests conducted in the early 1990's, cracks were found on the top skin of the wing at the centre spar joint between ribs 1 and 7.

Consequently, Airbus developed production mod. 10089 and issued Service Bulletin (SB) A300-57-6041, involving installation of a reinforcing plate on the affected area. Despite this improvement, subsequent cases of cracks were reported by operators.

This condition, if not detected and corrected, could adversely affect the structural integrity of the aeroplane.

To address this potential unsafe condition, Airbus issued SB A300-57-6044 and DGAC [Direction Générale de l'Aviation Civile] France issued AD 95-086-180 (later revised twice) to require repetitive inspections of the affected area and, depending on findings, accomplishment of applicable corrective action(s).

Since [DGAC] AD 1995-086-180(B)R2 [which corresponds to FAA AD 97-20-07, Amendment 39-10145 (62 FR 50251, September 25, 1997)] was issued, a fleet survey and updated Fatigue and Damage Tolerance Analyses were performed in order to substantiate the second A300-600 Extended Service Goal (ESG2) exercise. The results of these analyses have shown that the inspection thresholds and intervals must be reduced to allow timely detection of these cracks and accomplishment of an applicable corrective action.

Prompted by these findings, Airbus issued SB A300-57-6044 Revision 04 [dated August 19, 2011].

For the reasons described above, this [EASA] AD retains the requirements of DGAC France AD 1995-086-180(B)R2, which is superseded, but requires the repetitive inspections to be accomplished at reduced thresholds and intervals and, depending on findings, corrective actions.

You may examine the MCAI in the AD docket on the Internet at http://www.regulations.gov by searching for and locating it in Docket No. FAA-2015-1426.

Related Service Information Under 1 CFR Part 51

Airbus has issued Service Bulletin A300-57-6044, Revision 04, including Appendix 01, dated August 19, 2011. The service information describes procedures for inspections to detect fatigue cracking in the left and right wings in the area where the top skin attaches to the center spar, and repair or modification of this area. The actions described in this service information are intended to correct the unsafe condition identified in the MCAI. This service information is reasonably available because the interested parties have access to it through their normal course of business or by the means identified in the ADDRESSES section of this NPRM.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 47 airplanes of U.S. registry.

The actions that are required by AD 97-20-07, Amendment 39-10145 (62 FR 50251, September 25, 1997), and retained in this proposed AD take about 3 work-hours per product, at an average labor rate of $85 per work-hour. Based on these figures, the estimated cost of the actions that were required by AD 97-20-07 is $255 per product.

We also estimate that it would take about 5 work-hours per product to comply with the basic requirements of this proposed AD. The average labor rate is $85 per work-hour. Based on these figures, we estimate the cost of this proposed AD on U.S. operators to be $19,975, or $425 per product.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 97-20-07, Amendment 39-10145 (62 FR 50251, September 25, 1997), and adding the following new AD:

Airbus: Docket No. FAA-2015-1426; Directorate Identifier 2013-NM-200-AD.

(a) Comments Due Date

We must receive comments by July 20, 2015.

(b) Affected ADs

This AD replaces AD 97-20-07, Amendment 39-10145 (62 FR 50251, September 25, 1997).

(c) Applicability

This AD applies to the Airbus airplanes identified in paragraphs (c)(1) through (c)(4) of this AD, certificated in any category, all manufacturer serial numbers except those on which Airbus Modification 10160 has been done in production.

(1) Airbus Model A300 B4-601, B4-603, B4-620, and B4-622 airplanes.

(2) Airbus Model A300 B4-605R and B4-622R airplanes.

(3) Airbus Model A300 F4-605R and F4-622R airplanes.

(4) Airbus Model A300 C4-605R Variant F airplanes.

(d) Subject

Air Transport Association (ATA) of America Code 57, Wings.

(e) Reason

This AD was prompted by a determination that the inspection compliance time and repetitive inspection interval must be reduced to allow timely detection of cracking in the left and right wings in the area where the top skin attaches to the center spar. We are issuing this AD to detect and correct this cracking, which could reduce the residual strength of the top skin of the wings, and consequently affect the structural integrity of the airframe.

(f) Compliance

Comply with this AD within the compliance times specified, unless already done.

(g) Retained Repetitive Inspections and Corrective Actions With Revised Service information

This paragraph restates the requirements of paragraph (a) of AD 97-20-07, Amendment 39-10145 (62 FR 50251, September 25, 1997), with revised service information. For airplanes on which Airbus Modification 10089 has not been installed: Prior to the accumulation of 18,000 total landings, or within 1,500 landings after October 30, 1997 (the effective date of AD 97-20-07), whichever occurs later, conduct either a detailed visual inspection or a high frequency eddy current (HFEC) inspection to detect fatigue cracking in the left and right wings in the area where the top skin attaches to the center spar between ribs 1 and 7, in accordance with Airbus Service Bulletin A300-57-6044, Revision 02, dated September 6, 1995, including Appendix 1; or Airbus Service Bulletin A300-57-6044, Revision 04, including Appendix 01, dated August 19, 2011. As of the effective date of this AD, use only Airbus Service Bulletin A300-57-6044, Revision 04, including Appendix 01, dated August 19, 2011. Accomplishment of the inspection required by paragraph (i) of this AD terminates the inspection requirements of this paragraph.

(1) If no cracking is detected, conduct repetitive inspections thereafter at the following intervals:

(i) If the immediately preceding inspection was conducted using detailed visual techniques, conduct the next inspection within 5,000 landings.

(ii) If the immediately preceding inspection was conducted using HFEC techniques, conduct the next inspection within 9,500 landings.

(2) If any cracking is detected or suspected during any detailed visual inspection required by paragraph (g), (g)(1), or (g)(3)(i) of this AD, prior to further flight, confirm this finding and the length of this cracking by conducting an HFEC inspection, in accordance with Airbus Service Bulletin A300-57-6044, Revision 02, dated September 6, 1995, including Appendix 01; or Airbus Service Bulletin A300-57-6044, Revision 04, including Appendix 01, dated August 19, 2011. As of the effective date of this AD, use only Airbus Service Bulletin A300-57-6044, Revision 04, including Appendix 01, dated August 19, 2011. If no cracking is confirmed during the HFEC inspection, accomplish the repetitive inspection required by paragraph (g)(1)(ii) of this AD at the time specified in that paragraph.

(3) If any cracking is detected or confirmed during any HFEC inspection required by paragraph (g), (g)(1), or (g)(2) of this AD:

(i) If the cracking is 75 millimeters (mm) or less per rib bay, prior to further flight, repair in accordance with Airbus Service Bulletin A300-57-6044, Revision 02, dated September 6, 1995, including Appendix 01; or Airbus Service Bulletin A300-57-6044, Revision 04, including Appendix 01, dated August 19, 2011. As of the effective date of this AD, use only Airbus Service Bulletin A300-57-6044, Revision 04, including Appendix 01, dated August 19, 2011. Thereafter, conduct repetitive detailed visual inspections of the repaired area at intervals not to exceed 50 landings, in accordance with Airbus Service Bulletin A300-57-6044, Revision 02, dated September 6, 1995, including Appendix 01; or Airbus Service Bulletin A300-57-6044, Revision 04, including Appendix 01, dated August 19, 2011. As of the effective date of this AD, use only Airbus Service Bulletin A300-57-6044, Revision 04, including Appendix 01, dated August 19, 2011.

(ii) If the cracking exceeds 75 mm per rib bay, prior to further flight, install Airbus Modification 10089, in accordance with Airbus Service Bulletin A300-57-6044, Revision 02, dated September 6, 1995, including Appendix 01; or Airbus Service Bulletin A300-57-6044, Revision 04, including Appendix 01, dated August 19, 2011. As of the effective date of this AD, use only Airbus Service Bulletin A300-57-6044, Revision 04, including Appendix 01, dated August 19, 2011. Thereafter, conduct a low frequency eddy current inspection in accordance with the requirements of paragraph (h) of this AD.

Note 1 to paragraph (g) of this AD: Airbus Service Bulletin A300-57-6044, Revision 02, dated September 6, 1995, including Appendix 01 references Airbus Service Bulletin A300-57-6041, Revision 04, dated November 16, 1995, as an additional source of guidance for installing Airbus Modification 10089.

(h) Retained Repetitive Inspections and Corrective Actions for Certain Airplanes with Revised Service Information and Repair Instructions

This paragraph restates the requirements of paragraph (b) of AD 97-20-07, Amendment 39-10145 (62 FR 50251, September 25, 1997), with revised service information and repair instructions. For airplanes on which Airbus Modification 10089 has been installed: Prior to the accumulation of 22,000 total landings after this modification has been installed, or within 1,500 landings after October 30, 1997 (the effective date of AD 97-20-07), whichever occurs later, conduct a low frequency eddy current (LFEC) inspection to detect fatigue cracking in the inboard and rear edges of the top skin reinforcing plates, in accordance with Airbus Service Bulletin A300-57-6044, Revision 02, dated September 6, 1995, including Appendix 01; or Airbus Service Bulletin A300-57-6044, Revision 04, including Appendix 01, dated August 19, 2011. As of the effective date of this AD, use only Airbus Service Bulletin A300-57-6044, Revision 04, including Appendix 01, dated August 19, 2011. Accomplishment of the inspection required by paragraph (k) of this AD terminates the inspection requirements of this paragraph.

(1) If no cracking is detected, repeat this inspection thereafter at intervals not to exceed 11,000 landings.

(2) If any cracking is detected, prior to further flight, repair in accordance with a method approved by the Manager, Standardization Branch, ANM-113, FAA, Transport Airplane Directorate. As of the effective date of this AD, repair using a method approved by the Manager, International Branch, ANM-116, Transport Airplane Directorate, FAA; or the European Aviation Safety Agency (EASA); or Airbus's EASA Design Organization Approval (DOA). Thereafter, repeat this inspection at intervals not to exceed 11,000 landings.

(i) New Requirement of This AD: Initial Inspections

For airplanes on which Airbus Modification 10089 has not been installed: At the applicable time specified in paragraphs (i)(1) and (i)(2) of this AD, do either a detailed visual inspection or an HFEC inspection to detect fatigue cracking in the left and right wings in the area where the top skin attaches to the center spar between ribs 1 and 7, in accordance with the Accomplishment Instructions of Airbus Service Bulletin A300-57-6044, Revision 04, including Appendix 01, dated August 19, 2011. Accomplishment of the inspection required by this paragraph terminates the inspection requirements of paragraph (g) of this AD.

(1) For airplanes whose flight time average is equal to or more than 1.5 hours, at the later of the times specified in paragraphs (i)(1)(i) and (i)(1)(ii) of this AD.

(i) Before the accumulation of 14,000 total flight cycles or 30,300 total flight hours, whichever occurs first.

(ii) Within 1,500 flight cycles or 3,200 flight hours after the effective date of this AD, whichever occurs first.

(2) For airplanes whose flight time average is less than 1.5 hours, at the later of the times specified in paragraphs (i)(2)(i) and (i)(2)(ii) of this AD.

(i) Before the accumulation of 15,100 total flight cycles or 22,700 total flight hours, whichever occurs first.

(ii) Within 1,600 flight cycles or 2,500 flight hours after the effective date of this AD, whichever occurs first.

(j) New Requirement of This AD: Repetitive Inspections

Repeat the inspections specified in paragraph (i) of this AD thereafter at the applicable interval specified in paragraphs (j)(1) and (j)(2) of this AD.

(1) For airplanes whose flight time average is equal to or more than 1.5 hours, at the applicable interval specified in paragraphs (j)(1)(i) and (j)(1)(ii) of this AD.

(i) For a detailed inspection, at intervals not to exceed 3,900 flight cycles or 8,400 flight hours, whichever occurs first.

(ii) For an HFEC inspection, at intervals not to exceed 7,400 flight cycles or 16,000 flight hours, whichever occurs first.

(2) For airplanes whose flight time average is less than 1.5 hours at the applicable interval specified in paragraphs (j)(2)(i) and (j)(2)(ii) of this AD.

(i) For a detailed inspection, at intervals not to exceed 4,200 flight cycles or 6,300 flight hours, whichever occurs first.

(ii) For an HFEC inspection, at intervals not to exceed 8,000 flight cycles or 11,900 flight hours, whichever occurs first.

(k) New Requirement of This AD: Initial Inspection for Certain Airplanes

For airplanes on which Airbus Modification 10089 has been installed: At the applicable time specified in paragraphs (k)(1) and (k)(2) of this AD, do an LFEC inspection to detect fatigue cracking in the inboard and rear edges of the top skin reinforcing plates, in accordance with the Accomplishment Instructions of Airbus Service Bulletin A300-57-6044, Revision 04, including Appendix 01, dated August 19, 2011. Accomplishment of the inspection required by this paragraph terminates the inspection requirements of paragraph (h) of this AD.

(1) For airplanes whose flight time average is equal to or more than 1.5 hours, at the later of the times specified in paragraphs (k)(1)(i) and (k)(1)(ii) of this AD.

(i) Before the accumulation of 17,000 total flight cycles or 37,100 total flight hours, whichever occurs first.

(ii) Within 1,500 flight cycles or 3,200 flight hours after the effective date of this AD, whichever occurs first.

(2) For airplanes whose flight time average is less than 1.5 hours, at the later of the times specified in paragraphs (k)(2)(i) and (k)(2)(ii) of this AD.

(i) Before the accumulation of 18,500 total flight cycles or 27,800 total flight hours, whichever occurs first.

(ii) Within 1,600 flight cycles or 2,500 flight hours after the effective date of this AD, whichever occurs first.

(l) New Requirement of This AD: Repetitive Inspections for Certain Airplanes

Repeat the inspection specified in paragraph (k) of this AD thereafter at the applicable interval specified in paragraphs (l)(1) and (l)(2) of this AD.

(1) For airplanes whose flight time average is equal to or more than 1.5 hours, at intervals not to exceed 8,500 flight cycles or 18,500 flight hours, whichever occurs first.

(2) For airplanes whose flight time average is less than 1.5 hours, at intervals not to exceed 9,200 flight cycles or 13,700 flight hours, whichever occurs first.

(m) New Requirement of This AD: Corrective Actions

(1) If any cracking is detected or suspected during any detailed visual inspection required by paragraph (i) or (j) of this AD: Before further flight, confirm this finding and the length of this cracking by conducting an HFEC inspection, in accordance with the Accomplishment Instructions of Airbus Service Bulletin A300-57-6044, Revision 04, including Appendix 01, dated August 19, 2011, except as specified in paragraph (o) of this AD. If no cracking is confirmed during the HFEC inspection, accomplish the applicable repetitive inspections required by paragraphs (j) and (l) of this AD at the applicable time specified in those paragraphs.

(2) If any cracking is found during any HFEC inspection required by paragraph (i), (j), (k) or (l) of this AD: Before further flight, do the applicable actions specified in paragraphs (m)(2)(i) and (m)(2)(ii) of this AD.

(i) If the cracking is 75 mm or less per each rib bay: Before further flight, repair the cracking, in accordance with the Accomplishment Instructions of Airbus Service Bulletin A300-57-6044, Revision 04, including Appendix 01, dated August 19, 2011, except as specified in paragraph (o) of this AD. Do repetitive detailed visual inspections of the repaired area thereafter at intervals not to exceed 50 flight cycles or 110 flight hours, whichever occurs first, in accordance with the Accomplishment Instructions of Airbus Service Bulletin A300-57-6044, Revision 04, including Appendix 01, dated August 19, 2011. Within 250 flight cycles or 550 flight hours, whichever occurs first after doing the temporary repair, do a permanent repair of the repaired area, in accordance with the Accomplishment Instructions of Airbus Service Bulletin A300-57-6044, Revision 04, including Appendix 01, dated August 19, 2011.

(ii) If the cracking exceeds 75 mm per any rib bay: Before further flight, install Airbus Modification 10089, in accordance with the Accomplishment Instructions of Airbus Service Bulletin A300-57-6044, Revision 04, including Appendix 01, dated August 19, 2011. Do an LFEC inspection thereafter at the intervals specified in paragraph (l) of this AD.

(3) If any cracking is found during any inspection required by this AD at fastener holes 1A, 1, or 2: Before further flight, repair the cracking, in accordance with the Accomplishment Instructions of Airbus Service Bulletin A300-57-6044, Revision 04, including Appendix 01, dated August 19, 2011.

(n) Credit for Previous Actions

This paragraph provides credit for actions required by paragraphs (i) through (l) of this AD, if those actions were performed before the effective date of this AD using Airbus Service Bulletin A300-57-6044, Revision 03, dated April 7, 1999, including Appendix 01, which is not incorporated by reference in this AD.

(o) Exception to Service Information Specification

Although Airbus Service Bulletin A300-57-6044, Revision 04, including Appendix 01, dated August 19, 2011, specifies to submit information to Airbus, this AD does not require that submission.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(q) Related Information

(1) Refer to Mandatory Continuing Airworthiness Information (MCAI) EASA Airworthiness Directive 2013-0221, dated September 19, 2013, for related information. This MCAI may be found in the AD docket on the Internet at http://www.regulations.gov by searching for and locating Docket No. FAA-2015-1426.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on May 19, 2015.
Dionne Palmero,
Acting Manager, Transport Airplane Directorate, Aircraft Certification Service.

[FR Doc. 2015-13335 Filed 6-4-15; 8:45 am]

BILLING CODE 4910-13-P